DEPARTMENT OF HOMELAND SECURITY

Coast Guard

33 CFR Part 165

[Docket No. USCG-2013-0103]

RIN 1625-AA00

Safety Zones; Annual Events in the Captain of the Port Detroit Zone

AGENCY: Coast Guard, DHS.

ACTION: Notice of proposed rulemaking.

SUMMARY: The Coast Guard proposes to amend the list of safety zones for annual events in the Captain of the Port Detroit Zone. This proposed rule is intended to amend the rules that restrict vessels from portions of water areas during events that pose a hazard to public safety. Specifically, this rule proposes to add seven new safety zones and revise the locations of fifteen safety zones. The permanent safety zones established by this proposed rule are necessary to protect spectators, participants, and vessels from the hazards associated with fireworks displays, and other events.

DATES: Comments and related materials must be received by the Coast Guard on or before June 5, 2013.

ADDRESSES: You may submit comments identified by docket number USCG-2013-0103 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this proposed rule, call or email LT Adrian Palomeque, Waterways Management Division, Sector Detroit, Coast Guard; telephone (313) 568-9508, email Adrian.F.Palomeque@uscg.mil. If you have questions on viewing or submitting material to the docket, call Barbara Hairston, Program Manager, Docket Operations, telephone 202-366-9826.

SUPPLEMENTARY INFORMATION:

Table of Acronyms

DHS Department of Homeland Security

FR Federal Register

NPRM Notice of Proposed Rulemaking

TFR Temporary Final Rule

A. Public Participation and Request for Comments

We encourage you to participate in this rulemaking by submitting comments and related materials. All comments received will be posted without change to http://www.regulations.gov and will include any personal information you have provided.

1. Submitting Comments

If you submit a comment, please include the docket number for this rulemaking (USCG-2013-0103), indicate the specific section of this document to which each comment applies, and provide a reason for each suggestion or recommendation. You may submit your comments and material online (via http://www.regulations.gov) or by fax, mail or hand delivery, but please use only one of these means. If you submit a comment online via www.regulations.gov, it will be considered received by the Coast Guard when the comment is successfully transmitted. If you submit a comment via fax, hand delivery, or mail, it will be considered as having been received by the Coast Guard when the comment is received at the Docket Management Facility. We recommend that you include your name and a mailing address, an email address, or a telephone number in the body of your document so that we can contact you if we have questions regarding your submission.

To submit your comment online, go to http://www.regulations.gov, type the docket number USCG-2013-0103 in the “SEARCH” box and click “SEARCH.” Click on “Submit a Comment” on the line associated with this rulemaking.

If you submit your comments by mail or hand delivery, submit them in an unbound format, no larger than 81/2 by 11 inches, suitable for copying and electronic filing. If you submit comments by mail and would like to know that they reached the Facility, please enclose a stamped, self-addressed postcard or envelope. We will consider all comments and material received during the comment period and may change the rule based on your comments.

2. Viewing Comments and Documents

To view comments, as well as documents mentioned in this preamble as being available in the docket, go to http://www.regulations.gov, type the docket number USCG-2013-0103 in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public Meeting

We do not now plan to hold a public meeting, but you may submit a request for one using one of the four methods specified under ADDRESSES. Please explain why you believe a public meeting would be beneficial. If we determine that one would aid this rulemaking, we will hold one at a time and place announced by a later notice in the Federal Register.

B. Regulatory History and Information

On August 8, 2008, the Coast Guard put into effect 33 CFR 165.941, which established several permanent safety zones within U.S. waters under the jurisdiction of the Captain of the Port Detroit (73 FR 46194). Specifically, forty-nine permanent safety zones were established at that time. Almost two years later, on June 9, 2010, the Coast Guard amended 33 CFR 165.941, permanently adding several safety zones, which brought the total to fifty-six (75 FR 32668). The Coast Guard amended 33 CFR 165.941 a third time on July 18, 2012, bringing the total permanent safety zones to fifty-nine (77 FR 42176). On the whole, these fifty-nine safety zones were permanently put in place over time to protect the boating public from hazards associated with certain annually recurring maritime events that take place on U.S. navigable waterways.

As in years past, the Coast Guard recently inventoried the maritime events that occur on waters under the jurisdiction of the Captain of the Port Detroit. As a result of that inventory, the Coast Guard proposes to add seven new safety zones to 33 CFR 165.941, which will bring the total to sixty-six. Each of the safety zones proposed to be added have previously been established and enforced by the Coast Guard via separate TFRs. All but one of those seven TFRs, the safety zone associated with the Port Huron Blue Water Festival, were published previously in the Federal Register (E.g., 76 FR 41691, 77 FR 32394, 77 FR 50923, and 77 FR 62440).

C. Basis and Purpose

As stated above, 33 CFR 165.941 currently lists fifty-nine permanent safety zones located within the Captain of the Port Detroit Zone. Each of these safety zones corresponds to an annually recurring maritime event. As also mentioned above, a review of the maritime events that take place annually within the Detroit Captain of the Port Zone recently revealed that seven recurring events require that seven safety zones be permanently added to 33 CFR 165.941. Specifically, the Captain of the Port has determined that three fireworks events, two triathlon sporting events, one pumpkin launching benefit event, and one cannonade event require a permanent safety zone in 33 CFR 165.941. Each of these seven events recurs once per year, typically during the same month and week. However, the exact date and time of each of event differs each year.

The Captain of the Port believes these seven proposed safety zones are necessary to protect vessels and people from the hazards associated with each corresponding event. Such hazards include obstructions to the waterway, the explosive dangers of fireworks, premature and accidental detonations, dangerous projectiles, falling or burning debris, and flying cannon balls. Each of these hazards poses a significant risk to public safety and property. Accordingly, pursuant to the authority contained in 33 U.S.C. 1231, the Captain of the Port Detroit proposes to add seven new safety zones.

In addition to revealing the need for seven new additional safety zones, the recent review of the recurring maritime events within the Captain of the Port Detroit Zone also revealed the need to revise the location descriptions of fifteen safety zones already established in 33 CFR 165.941. These changes are necessary to better align the location of each safety zone with the planned location of each maritime event as recently communicated to the Coast Guard by event organizers.

D. Discussion of Proposed Rule

For all of the above reasons, the Captain of the Port Detroit proposes to permanently establish seven safety zones in 33 CFR 165.941 to ensure the safety of vessels and people during each associated annual event. Specifically, the Captain of the Port Detroit proposes to establish the following safety zones:

(1) 3 Disciplines Triathlon, Lake Erie, Monroe, MI: This safety zone will encompass all navigable waters of Lake Erie, Monroe, MI bound by a line beginning onshore at 41°54′14″ N; 083°20′01″ W to 41°54′13″ N; 083°19′48″ W to 41°54′50″ N; 083°19′39″ W to 41°54′51″ N; 083°19′52″ W, and from thence along the shoreline to the beginning (NAD 83). It will be enforced one morning during a weekend in June. The exact dates and times will be determined annually.

(2) BGSU Football Gridiron Classic Golf and Dinner Fireworks, Catawba Island, OH: This safety zone will encompass all waters of Lake Erie within a 75-yard radius of the fireworks launch site located at position 41°34′18″ N, 082°51′18″ W (NAD 83). This safety zone will be enforced one evening in July. The exact dates and times will be determined annually.

(3) Jet Express Triathlon, Sandusky Bay, Lake Erie, Lakeside, OH: This safety zone will encompass all waters of Lake Erie within a direct line from 41°33′49″ N 082°47′8″ W to 41°33′25″ N 082°48′8″ W and 15 yards on either side of direct line. All geographic coordinates are North American Datum of 1983 (NAD 83). This safety zone will be enforced one morning during a weekend in September. The exact dates and times will be determined annually.

(4) Wounded Warriors Benefit, East Huron, OH: This safety zone will encompass all waters of Lake Erie within a 2500 ft radius of the pumpkin launch site located at position 41°23′6.7194″ N, 082°27′46.6812″ W. All geographic coordinates are North American Datum of 1983 (NAD 83). This safety zone will be enforced one day on the third or fourth weekend of October. The exact dates and times will be determined annually.

(5) Detroit Symphony Orchestra Fireworks at the Ford House; Grosse Pointe, MI: This safety zone will encompass all waters of Lake St. Clair, Grosse Pointe Shores, MI within a 600 foot radius of position 42° 27′15″ N and 082° 51′56″ W (NAD 83). This safety zone will be enforced one evening during the first two weeks in July. The exact dates and times will be determined annually.

(6) Blue Water Festival Fireworks, Port Huron, MI: This safety zone will encompass all the waters of the St. Clair River, Port Huron, MI within a 500 foot radius of position 42° 57′55″ N and 082° 25′19″ W (NAD 83). This safety zone will be enforced one evening during the first two weeks in July. The exact dates and times will be determined annually.

(7) Cannonade; Harsens Island, MI: This safety zone will encompass all waters of Lake St. Clair, Muscamoot Bay, Harsens Island, MI within an area bound by the coordinates starting at the cannon firing position located at 42°32.5′ N, 082°40.1′ W extending west to the Old Channel Light located at position 42°32.5′ N, 082°41.6′ W angling northeast to position 42°33.5″ N, 082°40.6′ W then angling southeast to the point of origin (NAD 83). This safety zone will be enforced one afternoon during the first or second weekend of October.

As alluded to above, this proposed rule will also update the coordinates for fifteen safety zones already established in 33 CFR 165.941. These safety zones are associated with the Put-in-Bay Fourth of July Fireworks in Put-In-Bay, OH; the Toledo Country Club Memorial Celebration and Fireworks in Toledo, OH; the Toledo Country Club 4th of July Fireworks in Toledo, OH; the Pharm Lights Up The Night Fireworks in Toledo, OH; the Red, White and Blues Bang Fireworks in Huron, OH; the Huron Riverfest Fireworks in Huron, OH; the Riverfest at the International Docks in Toledo, OH; the Port Austin Fireworks in Port Austin, MI; the Grosse Pointe Yacht Club 4th of July Fireworks in Grosse Pointe Shores, MI; the Grosse Ile Yacht Club Fireworks in Grosse Ile, MI; the Trenton Fireworks in Trenton, MI; the Belle Maer Harbor 4th of July Fireworks in Harrison Township, MI; the Bay City Fireworks Festival in Bay City, MI; the Catawba Island Club Fireworks in Catawba Island, OH; and the Bay Point Fireworks Display in Marblehead, OH.

Although this proposed rule will remain in effect year round, the safety zones within it will be enforced only immediately before, during, and after events that pose hazard to the public, and only upon notice by the Captain of the Port. The Captain of the Port Detroit will use all appropriate means to notify the public when the safety zones in this proposal will be enforced. Consistent with 33 CFR 165.7(a), such means of may include, among other things, publication in the Federal Register, Broadcast Notice to Mariners, Local Notice to Mariners, or, upon request, by facsimile (fax). Also, the Captain of the Port may issue a Broadcast Notice to Mariners notifying the public if enforcement of a safety zone in this section is cancelled prematurely.

Entry into, transiting, or anchoring within one of these proposed safety zones during an enforcement period is prohibited unless authorized by the Captain of the Port Detroit or his designated representative. The Captain of the Port or his designated representative may be contacted via VHF Channel 16.

E. Regulatory Analyses

We developed this proposed rule after considering numerous statutes and executive orders related to rulemaking. Below we summarize our analyses based on these statutes and executive orders.

1. Regulatory Planning and Review

This proposed rule is not a significant regulatory action under section 3(f) of Executive Order 12866, Regulatory Planning and Review, and does not require an assessment of potential costs and benefits under section 6(a)(3) of that Order. The Office of Management and Budget has not reviewed it under that Order. It is not “significant” under the regulatory policies and procedures of the Department of Homeland Security (DHS). We conclude that this proposed rule is not a significant regulatory action because we anticipate that it will have minimal impact on the economy, will not interfere with other agencies, will not adversely alter the budget of any grant or loan recipients, and will not raise any novel legal or policy issues. The safety zones established by this proposed rule will be relatively small and enforced for relatively short times. Also, each safety zone is designed to minimize its impact on navigable waters. Furthermore, each safety zone has been designed to allow vessels to transit unrestricted to portions of the waterways not affected by the safety zones. Thus, restrictions on vessel movements within any particular area are expected to be minimal. Under certain conditions, moreover, vessels may still transit through each safety zone when permitted by the Captain of the Port. On the whole, the Coast Guard expects insignificant adverse impact to mariners from the activation of these safety zones.

2. Impact on Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities.

This proposed rule would affect the following entities, some of which might be small entities: The owners and operators of vessels intending to transit or anchor in the areas designated as safety zones during the dates and times the safety zones are being enforced.

These proposed safety zones will not have a significant economic impact on a substantial number of small entities for all of the reasons discussed in the above Regulatory Planning and Review section. If you think that your business, organization, or governmental jurisdiction qualifies as a small entity and that this proposed rule would have a significant economic impact on it, please submit a comment (see ADDRESSES) explaining why you think it qualifies and how and to what degree this rule would economically affect it.

3. Assistance for Small Entities

Under section 213(a) of the Small Business Regulatory Enforcement Fairness Act of 1996 (Pub. L. 104-121), we want to assist small entities in understanding this proposed rule so that they can better evaluate its effects on them and participate in the rulemaking process. If this proposed rule would affect your small business, organization, or governmental jurisdiction and you have questions concerning its provisions or options for compliance, please contact the person listed in the FOR FURTHER INFORMATION CONTACT, above. The Coast Guard will not retaliate against small entities that question or complain about this proposed rule or any policy or action of the Coast Guard.

4. Collection of Information

This proposed rule would call for no new collection of information under the Paperwork Reduction Act of 1995 (44 U.S.C. 3501-3520).

5. Federalism

A rule has implications for federalism under Executive Order 13132, Federalism, if it has a substantial direct effect on State or local governments and would either preempt State law or impose a substantial direct cost of compliance on them. We have analyzed this proposed rule under that Order and have determined that it does not have implications for federalism.

6. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the effects of this proposed rule elsewhere in this preamble.

7. Taking of Private Property

This proposed rule would not affect a taking of private property or otherwise have taking implications under Executive Order 12630, Governmental Actions and Interference with Constitutionally Protected Property Rights.

8. Civil Justice Reform

This proposed rule meets applicable standards in sections 3(a) and 3(b)(2) of Executive Order 12988, Civil Justice Reform, to minimize litigation, eliminate ambiguity, and reduce burden.

9. Protection of Children

We have analyzed this proposed rule under Executive Order 13045, Protection of Children from Environmental Health Risks and Safety Risks. This proposed rule is not an economically significant rule and would not create an environmental risk to health or risk to safety that might disproportionately affect children.

10. Indian Tribal Governments

This proposed rule does not have tribal implications under Executive Order 13175, Consultation and Coordination with Indian Tribal Governments, because it does not have a substantial direct effect on one or more Indian tribes, on the relationship between the Federal Government and Indian tribes, or on the distribution of power and responsibilities between the Federal Government and Indian tribes.

11. Energy Effects

This proposed rule is not a “significant energy action” under Executive Order 13211, Actions Concerning Regulations That Significantly Affect Energy Supply, Distribution, or Use.

12. Technical Standards

This proposed rule does not use technical standards. Therefore, we did not consider the use of voluntary consensus standards.

13. Environment

We have analyzed this proposed rule under Department of Homeland Security Management Directive 023-01 and Commandant Instruction M16475.lD, which guide the Coast Guard in complying with the National Environmental Policy Act of 1969 (NEPA) (42 U.S.C. 4321-4370f), and have made a preliminary determination that this action is one of a category of actions which do not individually or cumulatively have a significant effect on the human environment. This proposed rule involves the establishment of safety zones and thus, is categorically excluded under paragraph (34)(g) of the Instruction. A preliminary environmental analysis checklist supporting this determination is available in the docket where indicated under ADDRESSES. We seek any comments or information that may lead to the discovery of a significant environmental impact from this proposed rule.

List of Subjects in 33 CFR Part 165

Harbors, Marine safety, Navigation (water), Reporting and record keeping requirements, Security measures, Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1231; 46 U.S.C. Chapters 701, 3306, 3703; 50 U.S.C. 191, 195; 33 CFR 1.05-1, 6.04-1, 6.04-6, and 160.5; Pub. L. 107-295, 116 Stat. 2064; Department of Homeland Security Delegation No. 0170.1.

2. Revise § 165.941 to read as follows:

§ 165.941 Safety Zones; Annual Events in the Captain of the Port Detroit Zone.

(a) Safety Zones. The following areas are designated Safety zones:

(1) Roostertail Fireworks (barge), Detroit, MI:

(i) Location: All waters of the Detroit River within a 300-foot radius of the fireworks launch site located at position 42°21′16.67″ N, 082°58′20.41″ W. (NAD 83). This area is located between Detroit and Belle Isle near the Roostertail restaurant.

(ii) Enforcement Date and Time: One evening during the third week in July. The exact dates and times for this event will be determined annually.

(2) Washington Township Summerfest Fireworks, Toledo, OH:

(i) Location: All waters of the Ottawa River within a 600-foot radius of the fireworks launch site located at position 41°43′29″ N, 083°28′47″ W (NAD 83). This area is located at the Fred C. Young Bridge, Toledo, OH.

(ii) Enforcement Date and Time: One evening during the last week in June or the first week in July. The exact dates and times for this event will be determined annually.

(3) Au Gres City Fireworks, Au Gres, MI:

(i) Location: All waters of Saginaw Bay within a 700-foot radius of the fireworks launch site located at position 44°1.4′ N, 083°40.4′ W (NAD 83). This area is located at the end of the pier near the end of Riverside Drive in Au Gres, MI.

(ii) Enforcement Date and Time: One evening during the last week in June or the first week in July. The exact dates and times for this event will be determined annually.

(4) The Old Club Fireworks, Harsens Island, MI:

(i) Location: All waters of Lake St. Clair within an 850-foot radius of the fireworks launch site located at position 42°32.4′ N, 082°40.1′ W (NAD 83). This area is located near the southern end of Harsens Island, MI.

(ii) Enforcement Date and Time: One evening during the last week of June or the first week of July. The exact dates and times for this event will be determined annually.

(5) Put-In-Bay Fourth of July Fireworks, Put-In-Bay, OH:

(i) Location: All waters of Lake Erie within a 1,000-foot radius of the fireworks launch site located at position 41°39′28.92″ N, 082°48′52.98″ W (NAD 83). This area is located in Put-In-Bay Harbor.

(ii) Enforcement Date and Time: One evening during the first week of July. The exact dates and times for this event will be determined annually.

(6) Gatzeros Fireworks, Grosse Pointe Park, MI:

(i) Location. All waters of Lake St. Clair within a 300-foot radius of the fireworks launch site located at position 42°22.6′ N, 082°54.8′ W (NAD 83). This area is located near Grosse Pointe Park, MI.

(ii) Enforcement Date and Time: One evening during the first week in July. The exact dates and times for this event will be determined annually.

(7) Harrisville Fireworks, Harrisville, MI—

(i) Location. All waters of Lake Huron within a 450-foot radius of the fireworks launch site located at position 44°39.7′ N, 083°17.0′ W (NAD 83). This area is located at the end of the break wall at the Harrisville harbor in Harrisville, MI.

(ii) Enforcement Date and Time. One evening during the first week in July. The exact dates and times for this event will be determined annually.

(8) Harbor Beach Fireworks, Harbor Beach, MI—

(i) Location. All waters of Lake Huron within a 700-foot radius of the fireworks launch site located at position 43°50.8′ N, 082°38.6′ W (NAD 83). This area is located at the end of the railroad pier east of the end of State Street in Harbor Beach, MI.

(ii) Enforcement Date and Time. One evening during the second week in July. The exact dates and times for this event will be determined annually.

(9) Trenton Rotary Roar on the River Fireworks, Trenton, MI—

(i) Location. All waters of the Detroit River within a 420-foot radius of the fireworks launch site located at position 42°7.8′ N, 083°10.4′ W (NAD 83). This area is located between Grosse Ile and Elizabeth Park in Trenton, MI.

(ii) Enforcement Date and Time. One evening during the third week in July. The exact dates and times for this event will be determined annually.

(10) Nautical Mile Venetian Festival Fireworks, St. Clair Shores, MI—

(i) Location. All waters of Lake St. Clair within a 210-foot radius of the fireworks launch site located at position 42°28.2′ N, 082°52.5′ W (NAD 83). This area is located near Jefferson Beach Marina in St. Clair Shores, MI.

(ii) Enforcement Date and Time. One evening during the second week in August. The exact dates and times for this event will be determined annually.

(11) Cheeseburger Festival Fireworks, Caseville, MI—

(i) Location. All waters of Lake Huron within a 300-foot radius of the fireworks launch site located at position 43°56.9′ N, 083°17.2′ W (NAD 83). This area is located near the break wall located at Caseville County Park, Caseville, MI.

(ii) Enforcement Date and Time. One evening during the second week in August. The exact dates and times for this event will be determined annually.

(12) Detroit International Jazz Festival Fireworks, Detroit, MI—

(i) Location. All waters of the Detroit River within a 560-foot radius of the fireworks launch site located at position 42°19.6′ N, 83°2.6′ W (NAD 83). This area is located in the Detroit River between Cobo Hall and the GM Headquarters in Detroit, MI.

(ii) Enforcement Date and Time. One evening during the last week in August or the first week in September. The exact dates and times for this event will be determined annually.

(13) Marine City Maritime Festival Fireworks, Marine City, MI—

(i) Location. All waters of the St. Clair River within an 840-foot radius of the fireworks launch site located at position 42°42.9′ N, 082°29.1′ W (NAD 83). This area is located east of Marine City.

(ii) Enforcement Date and Time. One evening during the third week in September. The exact dates and times for this event will be determined annually.

(14) Schoenith Family Foundation Fireworks, Detroit, MI—

(i) Location. All waters of the Detroit River, within a 210-foot radius of the fireworks launch site located at position 42°21.2′ N, 82°58.4′ W. (NAD 83). This area is located between Detroit and Belle Isle.

(ii) Enforcement Date and Time. One evening during the third week in September. The exact dates and times for this event will be determined annually.

(15) Toledo Country Club Memorial Celebration and Fireworks, Toledo, OH—

(i) Location. All waters of the Maumee River, within a 250-yard radius of the fireworks launch site located on shore at position 41°35′51.0″ N, 83 °35′36.5″ W. (NAD 83). This area is located at the Toledo Country Club's 18th Green and encompasses the fireworks launch site.

(ii) Enforcement Date and Time. One evening during the last week in May. The exact dates and times for this event will be determined annually.

(16) Luna Pier Fireworks Show, Luna Pier, MI—

(i) Location. All waters of Lake Erie, within a 300-yard radius of the fireworks launch site located at position 41°48′32″ N, 83°26′23″ W. (NAD 83). This area is located at the Clyde E. Evens Municipal Pier.

(ii) Enforcement Date and Time. One evening during the first week in July. The exact dates and times for this event will be determined annually.

(17) Toledo Country Club 4th of July Fireworks, Toledo, OH—

(i) Location. All waters of the Maumee River, within a 250 yard radius of the fireworks launch site located on shore at position 41°35′51.0″ N, 83°35′36.5″ W. (NAD 83). This area is located at the Toledo Country Club's 18th Green and encompasses the fireworks launch site.

(ii) Enforcement Date and Time. One evening during the first week in July. The exact dates and times for this event will be determined annually.

(18) Pharm Lights Up The Night Fireworks, Toledo, OH—

(i) Location. All waters of the Maumee River, within a 300-yard radius of the fireworks launch site located at position 41°38′35″ N, 83°31′54″ W. (NAD 83).

(ii) Enforcement Date and Time. One evening during the first or second weeks in July. The exact dates and times for this event will be determined annually.

(19) Perrysburg/Maumee 4th of July Fireworks, Perrysburg, OH—

(i) Location. All waters of the Maumee River, within an 850-foot radius of the fireworks launch site located at position 41°33′27″ N, 83°38′59″ W. (NAD 83). This position is located at the Perrysburg/Maumee Hwy 20 Bridge.

(ii) Enforcement Date and Time. One evening during the first week in July. The exact dates and times for this event will be determined annually.

(20) Lakeside July 4th Fireworks, Lakeside, OH—

(i) Location. All waters of Lake Erie, within a 560-foot radius of the fireworks launch site located at position 41°32′52″ N, 82°45′03″ W. (NAD 83). This position is located at the Lakeside Association Dock.

(ii) Enforcement Date and Time. One evening during the first week in July. The exact dates and times for this event will be determined annually.

(21) Catawba Island Club Fireworks, Catawba Island, OH—

(i) Location. All waters of Lake Erie, within a 300-yard radius of the fireworks launch site located at position 41°34′20″ N, 82°51′18″ W. (NAD 83). This position is located at the northwest end of the Catawba Cliffs Harbor Light Pier.

(ii) Enforcement Date and Time. One evening during the first week in July. The exact dates and times for this event will be determined annually.

(22) Red, White and Blues Bang Fireworks, Huron, OH—

(i) Location. All waters of the Huron River, within a 300-yard radius of the fireworks launch site located at position 41°23′31.81″ N, 82°33′05.69″ W. (NAD 83). This position is located at the Huron Ore Docks in Huron, OH.

(ii) Enforcement Date and Time. One evening during the first week in July. The exact dates and times for this event will be determined annually.

(23) Huron Riverfest Fireworks, Huron, OH—

(i) Location. All waters of Huron Harbor, within a 350-foot radius of the fireworks launch site located at the Huron Ore Docks at position 41°23′31.81″ N, 82°33′05.69″ W. (NAD 83).

(ii) Enforcement Date and Time. One evening during the second week in July. The exact dates and times for this event will be determined annually.

(24) Kelleys Island, Island Fest Fireworks, Kelleys Island, OH:

(i) Location. All waters of Lake Erie, within a 300-yard radius of the fireworks launch site located at position 41°35′43″ N, 82°43′30″ W. (NAD 83). This position is located at the old Neuman Boat Line Dock.

(ii) Enforcement Date and Time. One evening during the third or fourth weeks in July. The exact dates and times for this event will be determined annually.

(25) Riverfest at the International Docks, Toledo, OH—

(i) Location. All waters of the Maumee River, starting at position 41°38′35″ N, 83°31′54″ W, then north/north-east to the south end of the City of Toledo Division of Streets, Harbors and Bridges building at 41°38′51″ N, 83°31′50″ W, then south-west to the red nun buoy #64 at 41°38′48″ N, 83°31′58″ W, then back to the point (NAD 83).

(ii) Enforcement Date and Time. One evening during the first week in September. The exact dates and times for this event will be determined annually.

(26) Rossford Labor Day Fireworks, Rossford, OH—

(i) Location. All waters of the Maumee River, within a 350-yard radius of the fireworks launch site located at position 41°36′58″ N, 83°33′56″ W. (NAD 83). This position is located at Veterans Memorial Park.

(ii) Enforcement Date and Time. One evening during the first week in September. The exact dates and times for this event will be determined annually.

(27) Lakeside Labor Day Fireworks, Lakeside, OH—

(i) Location. All waters of Lake Erie, within a 560-foot radius of the fireworks launch site located at position 41°32′52″ N, 82°45′03″ W. (NAD 83). This position is located at the Lakeside Association Dock.

(ii) Enforcement Date and Time. One evening during the first week in September. The exact dates and times for this event will be determined annually.

(28) Catawba Island Club Fireworks, Catawba Island, OH—

(i) Location. All waters of Lake Erie, within a 300-yard radius of the fireworks launch site located at position 41°34′20″ N, 82°51′18″ W. (NAD 83). This position is located at the northwest end of the Catawba Cliffs Harbor Light Pier.

(ii) Enforcement Date and Time. One evening during the first week in September. The exact dates and times for this event will be determined annually.

(29) Bay-Rama Fishfly Festival Fireworks, New Baltimore, MI—

(i) Location. All waters of Lake St. Clair-Anchor Bay, off New Baltimore City Park, within a 300-yard radius of the fireworks launch site located at position 42°41′ N, 082°44′ W (NAD 83).

(ii) Enforcement Date and Time. One evening during the first week in June. The exact dates and times for this event will be determined annually.

(30) Lake Erie Metropark Fireworks, Gibraltar, MI—

(i) Location. All waters of Lake Erie, off Lake Erie Metro Park, within a 300-yard radius of the fireworks launch site located at position 42°03′ N, 083°11′ W (NAD 83). This position is located off the Brownstown Wave pool area.

(ii) Enforcement Date and Time. One evening during the first week in July. The exact dates and times for this event will be determined annually.

(31) City of St. Clair Fireworks, St. Clair, MI—

(i) Location. All waters off the St. Clair River near St. Clair City Park, within a 300-yard radius of the fireworks launch site located at position 42°49′ N, 082°29′ W (NAD 83).

(ii) Enforcement Date and Time. One evening during the first week in July. The exact dates and times for this event will be determined annually.

(32) Oscoda Township Fireworks, Oscoda, MI—

(i) Location. All waters of Lake Huron, off the DNR Boat Launch near the mouth of the Au Sable River within a 300-yard radius of the fireworks launch site located at position 44°19′ N, 083°25′ W (NAD 83).

(ii) Enforcement Date and Time. One evening during the first week in July. The exact dates and times for this event will be determined annually.

(33) Port Austin Fireworks, Port Austin, MI—

(i) Location. All waters of Lake Huron, off the Port Austin break wall within a 300-yard radius of the fireworks launch site located at position 44°03′07” N, 082°59′42” W. (NAD 83).

(ii) Enforcement Date and Time. One evening during the first week in July. The exact dates and times for this event will be determined annually.

(34) City of Wyandotte Fireworks, Wyandotte, MI—

(i) Location. All waters of the Detroit River, off the break wall between Oak and Van Alstyne St., within a 300-yard radius of the fireworks launch site located at position 42°12′ N, 083°09′ W. (NAD 83).

(ii) Enforcement Date and Time. One evening during the first week in July. The exact dates and times for this event will be determined annually.

(35) Grosse Pointe Farms Fireworks, Grosse Pointe Farms, MI—

(i) Location. All waters of Lake St. Clair, within a 300-yard radius of the fireworks barge located at position 42°23′ N, 082°52′ W. (NAD 83). This position is located 300 yards east of Grosse Pointe Farms, MI.

(ii) Enforcement Date and Time. One evening during the first week in July. The exact dates and times for this event will be determined annually.

(36) Caseville Fireworks, Caseville, MI—

(i) Location. All waters of Saginaw Bay, within a 300-yard radius of the fireworks launch site located at position 43°56.9′ N, 083°17.2′ W. (NAD 83). This position is located off the Caseville break wall.

(ii) Enforcement Date and Time. One evening during the first week in July. The exact dates and times for this event will be determined annually.

(37) Algonac Pickerel Tournament Fireworks, Algonac, MI—

(i) Location. All waters of the St. Clair River, within a 300-yard radius of the fireworks barge located at position 41°37′ N, 082°32′ W. (NAD 83). This position is located between Algonac and Russell Island, St. Clair River-North Channel.

(ii) Enforcement Date and Time. One evening during the first week in July. The exact dates and times for this event will be determined annually.

(38) Port Sanilac Fireworks, Port Sanilac, MI—

(i) Location. All waters of Lake Huron within a 300-yard radius of the fireworks launch site located at position 43°25′ N, 082°31′ W. (NAD 83). This position is located at the South Harbor Break wall in Port Sanilac.

(ii) Enforcement Date and Time. One evening during the first week in July. The exact dates and times for this event will be determined annually.

(39) St. Clair Shores Fireworks, St. Clair Shores, MI:

(i) Location. All waters of Lake St. Clair within a 300-yard radius of the fireworks barge located at position 42°32′ N, 082°51′ W. (NAD 83). This position is located 1,000 yards east of Veteran's Memorial Park, St. Clair Shores.

(ii) Enforcement Date and Time. One evening during the first week in July. The exact dates and times for this event will be determined annually.

(40) Port Huron 4th of July Fireworks, Port Huron, MI—

(i) Location. All waters of the Black River within a 300-yard radius of the fireworks barge located at position 42°58′ N, 082°25′ W. (NAD 83). This position is located 300 yards east of 223 Huron Ave., Black River.

(ii) Enforcement Date and Time. One evening during the first week in July. The exact dates and times for this event will be determined annually.

(41) Grosse Pointe Yacht Club 4th of July Fireworks, Grosse Pointe Shores, MI—

(i) Location. All waters of Lake St. Clair within a 300-yard radius of the fireworks barge located at position 42°23′00″ N, 082°53′45″ W. (NAD 83). This position is located 400 yards east of the Grosse Pointe Yacht Club seawall, Lake St. Clair.

(ii) Enforcement Date and Time. One evening during the first week in July. The exact dates and times for this event will be determined annually.

(42) Lexington Independence Festival Fireworks, Lexington, MI—

(i) Location. All waters of Lake Huron within a 300-yard radius of the fireworks barge located at position 43°13′ N, 082°30′ W. (NAD 83). This position is located 300 yards east of the Lexington break wall, Lake Huron.

(ii) Enforcement Date and Time. One evening during the first week in July. The exact dates and times for this event will be determined annually.

(43) City of Ecorse Water Festival Fireworks, Ecorse, MI—

(i) Location. All waters of the Detroit River within a 300-yard radius of the fireworks barge located at position 41°14′ N, 083°09′ W. (NAD 83). This position is located in the Ecorse Channel at the northern end of Mud Island.

(ii) Enforcement Date and Time. One evening during the first week in July. The exact dates and times for this event will be determined annually.

(44) Grosse Ile Yacht Club Fireworks, Grosse Ile, MI—

(i) Location. All waters of the Detroit River within a 300-yard radius of the fireworks launch site located at position 42°05′23″ N, 083°09′00″ W. (NAD 83). This position is located in front of the Grosse Ile Yacht Club.

(ii) Enforcement Date and Time. One evening during the first week in July. The exact dates and times for this event will be determined annually.

(45) Trenton Fireworks, Trenton, MI—

(i) Location. All waters of the Detroit River within a 300-yard radius of the fireworks barge located at position 42°08′46″ N, 083°10′16″ W. (NAD 83). This position is located 200 yards east of Trenton in the Trenton Channel near Trenton, MI.

(ii) Enforcement Date and Time. One evening during the first week in July. The exact dates and times for this event will be determined annually.

(46) Belle Maer Harbor 4th of July Fireworks, Harrison Township, MI—

(i) Location. All waters of Lake St. Clair within a 300-yard radius of the fireworks barge located at position 42°36′32″ N, 082°47′40″ W. (NAD 83). This position is located 400 yards east of Belle Maer Harbor, Lake St. Clair.

(ii) Enforcement Date and Time. One evening during the first week in July. The exact dates and times for this event will be determined annually.

(47) Tawas City 4th of July Fireworks, Tawas, MI—

(i) Location. All waters of Lake Huron within a 300-yard radius of the fireworks launch site located at position 44°13′ N, 083°30′ W. (NAD 83). This position is located off the Tawas City Pier.

(ii) Enforcement Date and Time. One evening during the first week in July. The exact dates and times for this event will be determined annually.

(48) Venetian Festival Boat Parade and Fireworks, St. Clair Shores, MI—

(i) Location. All waters of Lake St. Clair within a 300-yard radius of the fireworks barge located at position 42°28′ N, 082°52′ W. (NAD 83). This position is located 600 yards off Jefferson Beach Marina, Lake St, Clair.

(ii) Enforcement Date and Time. One evening during the second week in August. The exact dates and times for this event will be determined annually.

(49) Celebrate America Fireworks, Grosse Pointe Farms, MI—

(i) Location. All waters of Lake St. Clair within a 500-foot radius of the fireworks launch site located at position 42°22′58″ N, 082°53′46″ W. (NAD 83). This area is located southeast of the Grosse Pointe Yacht Club.

(ii) Enforcement Date and Time. One evening during the third week in June. The exact dates and times for this event will be determined annually.

(50) Target Fireworks, Detroit, MI—

(i) Location. The following three areas are safety zones:

(A) The first safety zone area will encompass all waters of the Detroit River bounded by the arc of a circle with a 900-foot radius with its center in position 42°19′23″ N, 083°04′34″ W.

(B) The second safety zone area will encompass a portion of the Detroit River bounded on the South by the International Boundary line, on the West by 083°03′30″ W, on the North by the City of Detroit shoreline and on the East by 083°01′15″ W.

(C) The third safety zone will encompass a portion of the Detroit River bounded on the South by the International Boundary line, on the West by the Ambassador Bridge, on the North by the City of Detroit shoreline, and on the East by the downstream end of Belle Isle. The Captain of the Port Detroit has determined that vessels below 65 feet in length may enter this zone.

(ii) Enforcement Date and Time. One evening during the last week in June. The exact dates and times for this event will be determined annually.

(51) Sigma Gamma Association Fireworks, Grosse Pointe Farms, MI—

(i) Location. All waters of Lake St. Clair, within a 300-yard radius of the fireworks launch site located at position 42°27′ N, 082°52′ W (NAD 83) This position is located in the vicinity of Ford's Cove.

(ii) Enforcement Date and Time. One evening during the last week in June. The exact dates and times for this event will be determined annually.

(52) Southside Summer Fireworks, Port Huron, MI—

(i) Location. All waters of St. Clair River within a 300 yard radius of position 42°57′55″ N, 082°25′20″ W. This position is located on the shore of the St. Clair River in the vicinity of Oak and 3rd Street, Port Huron, MI. All geographic coordinates are North American Datum of 1983 (NAD 83).

(ii) Enforcement Date and Time. One evening during the last week in June. The exact dates and times for this event will be determined annually.

(53) Bay City Fireworks Festival, Bay City, MI—

(i) Location. All waters of the Saginaw River, from a 100 yard radius around the center of the Veteran's Memorial Bridge, located at position 43°35.9′ N, 083°53.6′ W, to approximately 1100 yards south of the Veteran's Memorial Bridge to the River Walk Pier, located at position 43°35.3′ N, 083°53.8′ W. All geographic coordinates are North American Datum of 1983 (NAD 83).

(ii) Enforcement Date and Time. Three evenings during the first week in July. The exact dates and times for this event will be determined annually.

(54) Toledo 4th of July Fireworks, Toledo, OH—

(i) Location. All waters of the Maumee River within a 300-yard radius of the fireworks launch site located at position 41°38′35″ N, 083°31′54″ W. All geographic coordinates are North American Datum of 1983 (NAD 83).

(ii) Enforcement Date and Time. One evening during the first week in July. The exact dates and times for this event will be determined annually.

(55) Toledo Labor Day Fireworks, Toledo, OH—

(i) Location: All waters of the Maumee River within a 300-yard radius of the fireworks launch site located at position 41°38′35″ N, 083°31′54″ W. All geographic coordinates are North American Datum of 1983 (NAD 83).

(ii) Enforcement Date and Time. One evening during the first week in September. The exact dates and times for this event will be determined annually.

(56) Catawba Island Club Fireworks; Catawba Island, OH—

(i) Location. All waters of Lake Erie within a 250-yard radius of the fireworks launch site located at position 41° 34′20″ N, 082°51′18″ W (NAD 83).

(ii) Enforcement Date and Time. This safety zone will be enforced one evening during the last week in May.

(57) Put-In-Bay Chamber of Commerce Fireworks, Put-In-Bay, OH—

(i) Location. All waters of Lake Erie within a 1,000-foot radius of the fireworks launch site located at position 41-39′-19″ N, 082-48′-57″ W (NAD 83). This area is located in the Put-In-Bay Harbor.

(ii) Enforcement Date and Times. This safety zone will be enforced one evening during the third week in June, one evening during the last week in June, one evening during the first week in September, and one evening during the second week in September.

(58) Bay Point Fireworks Display, Marblehead, OH—

(i) Location. All waters of Lake Erie within a 250-yard radius of the fireworks launch site located at position 41-30′-29.23″ N, 082-43′-8.45″ W (NAD 83).

(ii) Enforcement Date and Time. This safety zone will be enforced one evening during the first week in July.

(59) Marysville Days Fireworks, Marysville, MI—

(i) Location. All waters of the St. Clair River within a 600 foot radius of the fireworks launch site located on land at position 42-54′-25″ N, 082-27′-58″ W (NAD 83).

(ii) Enforcement Date and Time. This safety zone will be enforced one evening during the last week in June.

(60) 3 Disciplines Triathlon, Lake Erie, Monroe, MI—

(i) Location. The following area is a safety zone: all navigable waters of Lake Erie, Monroe, MI bound by a line beginning onshore at 41°54′14″ N; 083°20′01″ W to 41°54′13″ N; 083°19′48″ W to 41°54′50″ N; 083°19′39″ W to 41°54′51″ N; 083°19′52″ W, and from thence along the shoreline to the beginning (NAD 83).

(ii) Enforcement Date and Time. One morning during a weekend in June. The exact dates and times will be determined annually.

(61) BGSU Football Gridiron Classic Golf and Dinner Fireworks, Catawba Island, OH—

(i) Location. All waters of Lake Erie within a 75-yard radius of the fireworks launch site located at position 41°34′18″ N, 082°51′18″ W (NAD 83).

(ii) Enforcement Date and Time. One evening in July. The exact dates and times will be determined annually.

(62) Jet Express Triathlon, Sandusky Bay, Lake Erie, Lakeside, OH—

(i) Location. All waters of Lake Erie within a direct line from 41°33′49″ N 082°47′8″ W to 41°33′25″ N 082°48′8″ W and 15 yards on either side of direct line. All geographic coordinates are North American Datum of 1983 (NAD 83).

(ii) Enforcement Date and Time. One morning during a weekend in September. The exact dates and times will be determined annually.

(63) Wounded Warriors Benefit, East Huron, OH—

(i) Location. All waters of Lake Erie within a 2500 ft radius of the pumpkin launch site located at position 41°23′6.7194″ N, 082°27′46.6812″ W. All geographic coordinates are North American Datum of 1983 (NAD 83).

(ii) Enforcement Date and Time. One day on the third or fourth weekend of October. The exact dates and times will be determined annually.

(64) Detroit Symphony Orchestra Fireworks at the Ford House; Grosse Pointe, MI—

(i) Location. All waters of Lake St. Clair, Grosse Pointe Shores, MI within a 600 foot radius of position 42°27′15″ N and 082°51′56″ W (NAD 83).

(ii) Enforcement Date and Time. One evening during the first two weeks in July. The exact dates and times will be determined annually.

(65) Blue Water Festival Fireworks, Port Huron, MI—

(i) Location. All the waters of the St. Clair River, Port Huron, MI within a 500 foot radius of position 42°57′55″ N and 082°25′19″ W (NAD 83).

(ii) Enforcement Date and Time. One evening during the first two weeks in July. The exact dates and times will be determined annually.

(66) Cannonade; Harsens Island, MI—

(i) Location. All waters of Lake St. Clair, Muscamoot Bay, Harsens Island, MI within an area bound by the coordinates starting at the cannon firing position located at 42°32.5′ N, 082°40.1′ W extending west to the Old Channel Light located at position 42°32.5′ N, 082°41.6′ W angling northeast to position 42°33.5″N, 082°40.6′ W then angling southeast to the point of origin (NAD 83).

(ii) Enforcement Date and Time. One afternoon during the first or second weekend of October.

(b) Definitions. The following definitions apply to this section:

(1) Designated Representative means any Coast Guard commissioned, warrant, or petty officer designated by the Captain of the Port Detroit to monitor a safety zone, permit entry into the zone, give legally enforceable orders to persons or vessels within a zone, and take other actions authorized by the Captain of the Port.

(2) Public vessel means vessels owned, chartered, or operated by the United States, or by a State or political subdivision thereof.

(c) Regulations. (1) In accordance with the general regulations in § 165.23 of this part, entry into, transiting, or anchoring within anyone of the safety zones established by this section is prohibited unless authorized by the Captain of the Port Detroit or his designated representative.

(2)(i) These safety zones are closed to all vessel traffic, except as may be permitted by the Captain of the Port Detroit or his designated representative.

(ii) All persons and vessels must comply with the instructions of the Coast Guard Captain of the Port or his designated representative.

(iii) Upon being hailed by the U.S. Coast Guard by siren, radio, flashing light or other means, the operator of a vessel shall proceed as directed.

(3)(i) All vessels must obtain permission from the Captain of the Port or his designated representative to enter, move within, or exit the safety zone established in this section when this safety zone is enforced.

(ii) Vessels and persons granted permission to enter the safety zone must obey all lawful orders or directions of the Captain of the Port or a designated representative.

(iii) While within a safety zone, all vessels must operate at the minimum speed necessary to maintain a safe course.

(d) Exemption. Public vessels, as defined in paragraph (b) of this section, are exempt from the requirements in this section.

(e) Waiver. For any vessel, the Captain of the Port Detroit or his designated representative may waive any of the requirements of this section, upon finding that operational conditions or other circumstances are such that application of this section is unnecessary or impractical for the purposes of public or environmental safety.

(f) Notification. The Captain of the Port Detroit will notify the public that the safety zones in this section are or will be enforced by all appropriate means to the affected segments of the public including publication in the Federal Register as practicable, in accordance with 33 CFR 165.7(a). Such means of notification may also include, but are not limited to Broadcast Notice to Mariners or Local Notice to Mariners. The Captain of the Port may issue a Broadcast Notice to Mariners notifying the public when enforcement of the safety zone established by this section is cancelled if deemed necessary.

Dated: April 18, 2013.
D.V. Smith,
Commander, U.S. Coast Guard, Acting Captain of the Port Detroit.

[FR Doc. 2013-10609 Filed 5-3-13; 8:45 am]

BILLING CODE 9110-04-P